DEPARTMENT OF ENERGY

Federal Energy Regulatory Commission

[Docket No. RD23-2-000]

North American Electric Reliability Corporation; Supplemental Notice of Joint Technical Conference

As announced in the Notice of Joint Technical Conference issued in this proceeding on May 30, 2023, the Federal Energy Regulatory Commission (Commission) and North American Electric Reliability Corporation (NERC) staff will convene a technical conference on August 10, 2023, from approximately 9:00 a.m. to 4:30 p.m. Eastern Time.

The purpose of this conference is to discuss physical security of the Bulk-Power System, including the adequacy of existing physical security controls, challenges, and solutions. The conference will include two parts and four panel discussions. Part 1 will address the effectiveness of Reliability Standard CIP-014-3 (Physical Security) and include two panels on the applicability of CIP-014-3 and minimum levels of physical protection. Part 2 will address solutions beyond Reliability Standard CIP-014-3 and include two panels on physical security best practices and operational preparedness and planning a more resilient grid.

Attached to this Supplemental Notice is an agenda for the technical conference, which includes more detail for each panel. An additional supplemental notice will be issued with details on expected panelists. Only invited panelists and staff from the Commission and NERC will participate in the panel discussions. Interested parties may listen and observe, and written comments may be submitted after the conference in Docket No. RD23-2-000.

The conference will be held in-person at NERC's headquarters at 3353 Peachtree Road NE, Suite 600, North Tower, Atlanta, GA 30326. Information on travelling to NERC's Atlanta office is available here. The conference will be open for the public to attend, and there is no fee for attendance. It will be transcribed and webcast. Those observing via webcast may register here. Those who would like to attend in-person may register here. Space is limited for in-person attendance and therefore registration is required. In-person attendees are encouraged to ensure they have a confirmed in-person registration prior to finalizing any travel plans. Information on this conference will also be posted on the Calendar of Events on the Commission's website, www.ferc.gov, prior to the event.

Commission conferences are accessible under section 508 of the Rehabilitation Act of 1973. For accessibility accommodations, please send an email to accessibility@ferc.gov, call toll-free (866) 208-3372 (voice) or (202) 208-8659 (TTY), or send a fax to (202) 208-2106 with the required accommodations. The conference will also be transcribed. Transcripts will be available for a fee from Ace Reporting, (202) 347-3700.

For more information about this technical conference, please contact Terrance Clingan at Terrance.Clingan@ferc.gov or (202) 502-8823. For information related to logistics, please contact Lonnie Ratliff at Lonnie.Ratliff@nerc.net or Sarah McKinley at Sarah.McKinley@ferc.gov or (202) 502-8004.

Dated: June 29, 2023.
Debbie-Anne A. Reese,
Deputy Secretary.

[FR Doc. 2023-14261 Filed 7-5-23; 8:45 am]

BILLING CODE 6717-01-P